DEPARTMENT OF HEALTH AND HUMAN SERVICES

Centers for Disease Control and Prevention (CDC)

CDC/Health Resources and Services Administration (HRSA) Advisory Committee on HIV and STD Prevention and Treatment

In accordance with section 10(a)(2) of the Federal Advisory Committee Act (Pub. L. 92-463), the CDC announces the following meeting of the aforementioned committee:

Times and Dates: 8 a.m.-5 p.m., November 17, 2008. 8 a.m.-3 p.m., November 18, 2008.

Place: Bethesda North Marriott Hotel & Conference Center, 5701 Marinelli Road, Bethesda, Maryland 20852, Telephone: (301) 822-9200, Fax: (301) 822-9201.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters to be Discussed: Agenda items include issues pertaining to (1) HRSA Bureau of Primary Health Care focusing on Community Health Centers; (2) CDC's revised HIV incidence and prevalence estimates; (3) Key expert clinical data—Domestic and the President's Emergency Plan for AIDS Relief; and (4) Presentation on interface between mental health services and HIV/STD issues, including risk issues and comprehensive and synergistic care. Agenda items are subject to change as priorities dictate.

Contact Person for More Information: Traci Sears, Committee Management Specialist, CDC, Strategic Business Unit, 1600 Clifton Road, NE., Mailstop E-77, Atlanta, Georgia 30333, Telephone: (404) 498-2732, Fax: (404) 498-2708.

The Director, Management Analysis and Services Office, has been delegated the authority to sign Federal Register Notices pertaining to announcements of meetings and other committee management activities, for both the CDC and the Agency for Toxic Substances and Disease Registry.

Dated: October 15, 2008.
Elaine L. Baker,
Director, Management Analysis and Services Office, Centers for Disease Control and Prevention.

[FR Doc. E8-25129 Filed 10-21-08; 8:45 am]

BILLING CODE 4163-18-P